DEPARTMENT OF TRANSPORTATION

Federal Aviation Administration

14 CFR Part 39

[Docket No. FAA-2005-20690; Directorate Identifier 2003-NM-230-AD]

RIN 2120-AA64

Airworthiness Directives; Boeing Model 747-200C and 747-200F Series Airplanes

AGENCY: Federal Aviation Administration (FAA), Department of Transportation (DOT).

ACTION: Notice of proposed rulemaking (NPRM).

SUMMARY: The FAA proposes to adopt a new airworthiness directive (AD) for certain Boeing Model 747-200C and 747-200F series airplanes. This proposed AD would require one-time inspections for cracks and material loss in the fuselage skin above the stringer (STR) 23 lap splice, between Body Station (BS) 282 and BS 298, and repair if necessary. This proposed AD is prompted by a report of a crack above the STR 23 lap splice on one airplane. We are proposing this AD to detect and correct cracks or material loss in the fuselage skin, and consequent reduced structural integrity of the skin panel, which could result in rapid depressurization of the airplane.

DATES: We must receive comments on this proposed AD by May 9, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2005-20690; the directorate identifier for this docket is 2003-NM-230-AD.

FOR FURTHER INFORMATION CONTACT: Nick Kusz, Aerospace Engineer, Airframe Branch, ANM-120S, FAA, Seattle Aircraft Certification Office, 1601 Lind Avenue, SW., Renton, Washington 98055-4056; telephone (425) 917-6432; fax (425) 917-6590.

SUPPLEMENTARY INFORMATION:

Comments Invited

We invite you to submit any relevant written data, views, or arguments regarding this proposed AD. Send your comments to an address listed under ADDRESSES. Include “Docket No. FAA-2005-20690; Directorate Identifier 2003-NM-230-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report of a 3-inch skin crack on a Boeing Model 747-200F series airplane. The crack was located immediately above the Stringer (STR) 23 lap splice, between Body Station (BS) 282 and BS 298. The crack started in an area of the skin that had been inadvertently damaged during manufacture when an internal skin doubler was trimmed by grinding. The crack propagated by fatigue from the reworked area. This condition, if not corrected, could result in cracks in the fuselage skin, and consequent reduced structural integrity of the skin panel, which could cause rapid depressurization of the airplane.

The subject area on Boeing Model 747-200C series airplanes that are equipped with a nose cargo door is almost identical to that on Boeing Model 747-200F series airplanes that are equipped with a nose cargo door. Therefore, Boeing Model 747-200C series airplanes may be subject to the same unsafe condition.

Relevant Service Information

We have reviewed Boeing Special Attention Service Bulletin 747-53-2493, dated July 3, 2003. The service bulletin describes procedures for doing a one-time external detailed visual inspection for cracks, and a one-time low frequency eddy current inspection for material loss. The area to be inspected is 3.2 inches to 4.3 inches above the lower edge of the upper skin at STR 23L and STR 23R, from BS 282 to BS 298. If cracks are found, or if the skin is less than 0.056 inch thick, the service bulletin describes procedures for repair. Accomplishing the actions specified in the service information is intended to adequately address the unsafe condition.

FAA's Determination and Requirements of the Proposed AD

We have evaluated all pertinent information and identified an unsafe condition that is likely to exist or develop on other airplanes of this same type design. Therefore, we are proposing this AD, which accomplishes the actions specified in the service information described previously, except as discussed under “Difference Between the Proposed AD and the Service Bulletin.”

Difference Between the Proposed AD and the Service Bulletin

The “Effectivity” paragraph in Boeing Special Attention Service Bulletin 747-53-2493, dated July 3, 2003, states that the service bulletin applies to all Boeing Model 747-200C and all Boeing Model 747-200F series airplanes. However, there was an unintended omission in the service bulletin. This proposed AD would apply only to Boeing Model 747-200C and Boeing Model 747-200F series airplanes that are equipped with a nose cargo door. This difference has been coordinated with the manufacturer.

Clarification of Inspection Language

The service bulletin refers to a detailed visual inspection. However, this proposed AD refers to this inspection as a “detailed inspection.” Note 1 of this proposed AD defines a detailed inspection.

Costs of Compliance

There are about 77 airplanes of the affected design in the worldwide fleet. The following table provides the estimated costs for U.S. operators to comply with this proposed AD.

Estimated Costs
Action | Work hour | Average labor rate per hour | Parts | Cost per airplane | Number of U.S.-registered airplanes | Fleet cost
Inspections | 6 | $65 | None | $390 | 20 | $7,800

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20690; Directorate Identifier 2003-NM-230-AD.

Comments Due Date

(a) The Federal Aviation Administration (FAA) must receive comments on this AD action by May 9, 2005.

Affected ADs

(b) None.

Applicability

(c) This AD applies to Boeing Model 747-200C and 747-200F series airplanes, equipped with a nose cargo door, certificated in any category; as identified in paragraph 1.A.1 of Boeing Special Attention Service Bulletin 747-53-2493, dated July 3, 2003.

Unsafe Condition

(d) This AD was prompted by a report of a crack above the stringer (STR) 23 lap splice on a 747-200F series airplane. We are issuing this AD to detect and correct cracks or material loss in the fuselage skin, and consequent reduced structural integrity of the skin panel, which could result in rapid depressurization of the airplane.

Compliance

(e) You are responsible for having the actions required by this AD performed within the compliance times specified, unless the actions have already been done.

Inspections and Repair

(f) Before the accumulation of 15,000 total flight cycles, or within 1,200 flight cycles after the effective date of this AD, whichever occurs later: Do a detailed inspection for cracking, and a low frequency eddy current inspection for material loss, in the fuselage skin. Repair any crack or material loss prior to further flight. Do all actions in accordance with the Accomplishment Instructions of Boeing Special Attention Service Bulletin 747-53-2493, dated July 3, 2003.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

Issued in Renton, Washington, on March 14, 2005.
Ali Bahrami,
Manager, Transport Airplane Directorate, Aircraft Certification Service.

[FR Doc. 05-5695 Filed 3-22-05; 8:45 am]

BILLING CODE 4910-13-P